NATIONAL AERONAUTICS AND SPACE ADMINISTRATION

[Notice 03-089]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted on or before September 29, 2003.

ADDRESSES: All comments should be addressed to Ms. Celeste Dalton, Code HK, National Aeronautics and Space Administration, Washington, DC 20546-0001.

FOR FURTHER INFORMATION CONTACT: Ms. Nancy Kaplan, NASA Reports Officer, (202) 358-1372.

Title: Patents—Grants and Cooperative Agreements.

OMB Number: 2700-0048.

Type of Review: Extension of a currently approved collection.

Need and Uses: The information collected is required to ensure the proper disposition of rights to inventions made in the course of NASA-funded research. The requirement is codified in 14 CFR 1260.28.

Affected Public: Not-for-profit institutions; business or other for-profit; State, local, or tribal government.

Number of Respondents: 9082.

Responses Per Respondent: 1.

Annual Responses: 9082.

Hours Per Request: 20-60 minutes each.

Annual Burden Hours: 16,150.

Frequency of Report: Annually.

Patricia L. Dunnington,
Chief Information Officer, Office of the Administrator.

[FR Doc. 03-19535 Filed 7-30-03; 8:45 am]

BILLING CODE 7510-01-P